ENVIRONMENTAL PROTECTION AGENCY

[FRL-9623-4]

Proposed Consent Decree, Clean Air Act Citizen Suit

AGENCY: Environmental Protection Agency (EPA).

ACTION: Notice of Proposed Consent Decree; Request for Public Comment.

SUMMARY: In accordance with section 113(g) of the Clean Air Act, as amended (“CAA” or the “Act”), 42 U.S.C. 7413(g), notice is hereby given of a proposed consent decree to address a lawsuit filed by Sierra Club and Medical Advocates for Healthy Air (collectively “Plaintiffs”) in the United States District Court for the Northern District of California: Sierra Club, et al. v. Jackson, No. C11-cv-03106-JSW (N.D. CA). On June 23, 2011, Plaintiffs filed a complaint alleging that EPA failed to perform a mandatory duty under section 110(k)(2) of the CAA, 42 U.S.C. 7410(k)(2) to take timely final action on the RACT demonstration that was submitted to EPA on June 18, 2009 (“2009 RACT SIP”) by the California Air Resources Board and the San Joaquin Valley Unified Air Pollution Control District (the “District”), and that EPA found complete on December 11, 2009. The proposed consent decree establishes deadlines for EPA to take action.

DATES: Written comments on the proposed consent decree must be received by February 27, 2012.

ADDRESSES: Submit your comments, identified by Docket ID number EPA-HQ-OGC-2012-0037, online at www.regulations.gov (EPA's preferred method); by email to oei.docket@epa.gov; by mail to EPA Docket Center, Environmental Protection Agency, Mailcode: 2822T, 1200 Pennsylvania Ave. NW., Washington, DC 20460-0001; or by hand delivery or courier to EPA Docket Center, EPA West, Room 3334, 1301 Constitution Ave. NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Jan Tierney, Air and Radiation Law Office (2344A), Office of General Counsel, U.S. Environmental Protection Agency, 1200 Pennsylvania Ave. NW., Washington, DC 20460; telephone: (202) 564-5598; fax number (202) 564-5603; email address: tierney.jan@epa.gov.

SUPPLEMENTARY INFORMATION:

I. Additional Information About the Proposed Consent Decree

The proposed consent decree would resolve a lawsuit seeking to compel the Administrator to take timely final action under section 110(k) of the CAA on the Valley's 2009 RACT SIP on a specific timetable, and to promulgate a substitute FIP providing for the implementation of RACT on existing sources of volatile organic compounds and oxides of nitrogen in the Valley on a specific timetable where EPA has not approved a SIP for a specific source category. On December 15, 2011, EPA signed a final rule approving in part and disapproving in part the 2009 RACT SIP. See 77 FR 1417 (January 10, 2012). The proposed consent decree requires that for each source category for which EPA's final action on the 2009 RACT SIP identifies a RACT deficiency, EPA shall sign no later than September 15, 2012, a notice or notices approving a SIP rule in full, promulgating a FIP rule, or approving a SIP rule in part and promulgating a FIP as necessary to fully satisfy the RACT requirement in CAA section 182(b)(2) and (f). In addition, the proposed consent decree requires that for each source category described above for which EPA has not approved a SIP rule but has signed for publication in the Federal Register a proposed FIP rule by September 15, 2012, EPA shall sign no later than April 15, 2013, a notice or notices approving a SIP rule in full, promulgating a FIP rule, or approving a SIP rule in part and promulgating a FIP as necessary to fully satisfy the RACT requirement in CAA section 182(b)(2) and (f). Following signature on each notice described above, EPA shall deliver such notices to the Office of the Federal Register for publication. After EPA fulfills its obligations under the decree, the parties shall file a joint request to the Court to dismiss this matter with prejudice.

For a period of thirty (30) days following the date of publication of this notice, the Agency will accept written comments relating to the proposed consent decree from persons who were not named as parties or intervenors to the litigation in question. EPA or the Department of Justice may withdraw or withhold consent to the proposed consent decree if the comments disclose facts or considerations that indicate that such consent is inappropriate, improper, inadequate, or inconsistent with the requirements of the Act. Unless EPA or the Department of Justice determines that consent to this consent decree should be withdrawn, the terms of the decree will be affirmed.

II. Additional Information About Commenting on the Proposed Consent Decree

A. How can I get a copy of the consent decree?

The official public docket for this action (identified by Docket ID No. EPA-HQ-OGC-2012-0037) contains a copy of the proposed consent decree. The official public docket is available for public viewing at the Office of Environmental Information (OEI) Docket in the EPA Docket Center, EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use www.regulations.gov to submit or view public comments, access the index listing of the contents of the official public docket, and to access those documents in the public docket that are available electronically. Once in the system, key in the appropriate docket identification number then select “search”.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an email address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, email address, or other contact information unless you provide it in the body of your comment. In contrast to EPA's electronic public docket, EPA's electronic mail (email) system is not an “anonymous access” system. If you send an email comment directly to the Docket without going through www.regulations.gov, your email address is automatically captured and included as part of the comment that is placed in the official public docket, and made available in EPA's electronic public docket.

Dated: January 19, 2012.
Patricia Embrey,
Acting Associate General Counsel.

[FR Doc. 2012-1808 Filed 1-26-12; 8:45 am]

BILLING CODE 6560-50-P